COMMISSION ON CIVIL RIGHTS

Agenda and Notice of Public Meeting of the Nevada Advisory Committee

Notice is hereby given, pursuant to the provisions of the rules and regulations of the U.S. Commission on Civil Rights that a planning meeting of the Nevada Advisory Committee to the Commission will convene at 10 a.m. and adjourn at 12 p.m. on March 21, 2003, at 3500 Lakeside Court, 2nd Floor, Reno, Nevada 89509. The purpose of the meeting is to discuss civil rights issues and update status of the Nevada Equal Rights Commission subcommittee efforts.

Persons desiring additional information, or planning a presentation to the Committee, should contact Philip Montez, Director of the Western Regional Office, 213-894-3437 (TDD 213-894-3435). Hearing-impaired persons who will attend the meeting and require the services of a sign language interpreter should contact the Regional Office at least 10 working days before the scheduled date of the meeting.

The meeting will be conducted pursuant to the provisions of the rules and regulations of the Commission.

Dated in Washington, DC, February 4, 2003.
Ivy L. Davis,
Chief, Regional Programs Coordination Unit.

[FR Doc. 03-3411 Filed 2-10-03; 8:45 am]

BILLING CODE 6335-01-P